DEPARTMENT OF STATE

[Public Notice 8081]

Application for a Presidential Permit To Operate and Maintain Pipeline Facilities (Line 39) on the Border of the United States and Canada

AGENCY: Department of State.

ACTION: Notice of Receipt of Application for a Presidential Permit To Operate and Maintain Pipeline Facilities (Line 39) on the Border of the United States and Canada.

SUMMARY: Notice is hereby given that the Department of State (DOS) has received from NOVA Chemicals Inc. (“NOVA Inc.”) notice that by way of corporate succession, NOVA Inc. now owns, operates, and maintains pipeline facilities (Line 39) used to transport brine from a block valve site in St. Clair County, Michigan, near the city of Marysville to the international border between the United States and Canada. Line 39 was previously owned by Polysar Hydrocarbons Inc. (“Polysar”) and permitted under a 1986 Presidential Permit issued to NOVA Petrochemicals, Inc. NOVA Inc. requests a new Presidential Permit be issued under its name with respect to Line 39.

NOVA Inc. is incorporated in the State of Delaware and is a wholly-owned subsidiary of NOVA Chemicals Corporation (“NOVA Corporation”). NOVA Corporation is a company continued under the laws of the Province of New Brunswick, Canada. All of the issued and outstanding shares of NOVA Corporation are owned by a wholly owned subsidiary of the International Petroleum Investment Corporation (“IPIC”) which is wholly owned by the government of the Emirate of Abu Dhabi, United Arab Emirates.

Line 39 was initially constructed and owned by Polysar Hydrocarbons Inc. (“Polysar”) in 1990-91. The initial application for the permit requested that the permit be issued to Polysar. The 1991 permit was actually issued instead to NOVA Petrochemicals Inc. an affiliate of Polysar that was mentioned in the application, as owning the brine that would be transported on line 39. In February 1991, through a series of internal transactions, Polysar's direct parent was merged into NOVA Inc. and Polysar changed its name to Novacor Hydrocarbons Inc. (“Novacor”). Novacor then changed its name to NOVA Hydrocarbons and then NOVA Chemicals Hydrocarbon, and shortly thereafter was merged into NOVA Inc. Through several more corporate transactions involving changes in ownership of NOVA Inc.'s corporate parent, none has affected NOVA Inc.'s or its parent NOVA Chemicals Corporation's (“NOVA Corporation”) ownership of the border crossing facility subject to the 1991 Presidential Permit. NOVA Inc. anticipates no change in the operations of Line 39 relative to those that were authorized by the 1991 permit.

Under E.O. 13337 the Secretary of State is designated and empowered to receive all applications for Presidential Permits for the construction, connection, operation, or maintenance at the borders of the United States, of facilities for the exportation or importation of liquid petroleum, petroleum products, or other non-gaseous fuels to or from a foreign country. The Department of State is circulating this application to concerned federal agencies for comment. The Department of State has the responsibility to determine whether issuance of a new Presidential Permit reflecting the change in ownership or control of Line 39 would be in the U.S. national interest.

DATES: Interested parties are invited to submit comments within 30 days of the publication of this notice by email to Novachemicalpermit@state.gov with regard to whether issuing a new Presidential Permit reflecting the corporate succession and authorizing NOVA, Inc. to operate and maintain Line 39 would be in the national interest. The application is available at http://www.state.gov/e/enr/c52945.htm.

FOR FURTHER INFORMATION CONTACT: Office of Energy Diplomacy, Energy Resources Bureau (ENR/EDP/EWA), Department of State, 2201 C St. NW., Ste 4843, Washington, DC 20520, Attn: Michael Brennan, Tel: 202-647-7553. Email: brennanmf@state.gov.

Dated: October 26, 2012.
Douglas R. Kramer,
Acting Director, Office of Europe, Western Hemisphere and Africa, Bureau of Energy Resources, U.S. Department of State.

[FR Doc. 2012-27328 Filed 11-7-12; 8:45 am]

BILLING CODE 4710-09-P